DEPARTMENT OF THE INTERIOR

Bureau of Land Management

[14XL.LLIDT03000. LF2200000.JB0000. LFESHT800000.241A]

Notice of Temporary Closures on Public Lands in Blaine County, Idaho

AGENCY: Bureau of Land Management, Interior.

ACTION: Notice of Temporary Closure.

SUMMARY: Notice is hereby given that portions of the Beaver Creek Fire are closed year-round to human entry for the period specified. The closure is in effect on public lands administered by the Shoshone Field Office, Bureau of Land Management (BLM).

DATES: The closures will be in effect on July 9, 2014 and will remain in effect until June 30, 2015 or until rescinded or modified by the authorized officer or designated Federal officer.

FOR FURTHER INFORMATION CONTACT: Elizabeth Maclean, Shoshone Field Manager, 400 West F Street, Shoshone, Idaho 83352, via email at emaclean@blm.gov, or phone 208-732-7200. Persons who use a telecommunications device for the deaf (TDD) may call the Federal Information Relay Service (FIRS) at 1-800-877-8339 to contact the above individuals during normal business hours. The FIRS is available 24 hours a day, 7 days a week, to leave a message or question with the above individuals. You will receive a reply during normal hours.

SUPPLEMENTARY INFORMATION: The Beaver Creek Fire closure affects public lands burned in August 2013 by the Beaver Creek Fire, west of Hailey, Idaho. The parcels of public lands affected by these closures, depicted on the Beaver Creek Rehabilitation Recreation Entry Closure Maps 1, 2, and 3 are located at the Twin Falls District BLM Office in Twin Falls, Idaho. The legal description of the affected public lands is:

Boise Meridian, Blaine County, Idaho

T. 3 N., R. 17 E.,

Sec. 13, S½SW¼, NE¼SE¼, S½SE¼; and

Sec. 14, NW¼SW¼, S½SW¼, S½SE¼; and

Sec. 23, Lot 1, NE¼NW¼, N½NE¼, SE¼NE¼; and

Sec. 25, S½SW¼, SW¼SE¼; and

Sec. 26, SE¼SE¼; and

Sec. 35, SE¼SE¼.

T. 2 N., R. 17 E.,

See Map 2 and 3.

T. 2 N., R 18 E.,

See Map 2.

Containing 3,989 acres, more or less.

This closure is intended to slow the spread of noxious weeds; allow planted shrub, forb, and grass species to become established; and allow existing plants to recover which will help stabilize hillsides. Once the hillsides begin to stabilize the designated trail system in the area will be reconstructed. The BLM anticipates that the trail system will be open for public use by June 30, 2015.

The BLM will post closure signs at main entry points to the closed areas and/or other locations on-site. This closure will be posted in the Twin Falls District BLM offices. Maps of the affected area and other documents associated with this closure are available at 400 West F Street, Shoshone, Idaho 83352. Under the authority of Section 303(a) of the Federal Land Policy and Management Act of 1976 (43 U.S.C. 1733(a)), 43 CFR 8360.0-7, and 43 CFR 8364.1, the BLM will enforce the following rules within the Beaver Creek Fire closure: All human entry onto the lands described above, by any means, is prohibited while this closure order is in effect.

Exemptions: The following persons are exempt from this order: Federal, State, and local officers and employees in the performance of their official duties; members of organized rescue or fire-fighting forces in the performance of their official duties; any landowner or landowner employee within the closure area; and persons with written authorization from the BLM.

Penalties: On public lands under section 303(a) of the Federal Land Policy and Management Act of 1976 (43 U.S.C. 1733(a), 43 CFR 8360.0-7 and 43 CFR 8364.1, any person who violates the provisions of this closure may be tried before a United States Magistrate and fined no more than $1,000 or imprisoned for no more than 12 months, or both. Such violations may also be subject to enhanced fines provided for by 18 U.S.C. 3571.

Authority: 43 CFR 8364.1.

Elizabeth Maclean,
Shoshone Field Office Manager.

[FR Doc. 2014-13400 Filed 6-6-14; 8:45 am]

BILLING CODE 4310-GG-P